DEPARTMENT OF EDUCATION

National Institute on Disability and Rehabilitation Research (NIDRR)—Disability and Rehabilitation Research Projects and Centers Program—Rehabilitation Engineering Research Centers (RERCs)

Catalog of Federal Domestic Assistance (CFDA) Number: 84.133E-1 and 84.133E-3.

AGENCY: Office of Special Education and Rehabilitative Services, Department of Education.

ACTION: Notice of proposed priorities for two RERCs.

SUMMARY: The Assistant Secretary for Special Education and Rehabilitative Services proposes two priorities for the Disability and Rehabilitation Research Projects and Centers Program administered by NIDRR. Specifically, this notice proposes two priorities for RERCs: Universal Design in the Built Environment and Technologies for Children with Orthopedic Disabilities. The Assistant Secretary may use these priorities for competitions in fiscal year (FY) 2010 and later years. We take this action to focus research attention on areas of national need. We intend these priorities to improve rehabilitation services and outcomes for individuals with disabilities.

DATES: We must receive your comments on or before May 10, 2010.

ADDRESSES: Address all comments about this notice to Donna Nangle, U.S. Department of Education, 400 Maryland Avenue, SW., room 5142, Potomac Center Plaza, Washington, DC 20202-2700.

If you prefer to send your comments by e-mail, use the following address: donna.nangle@ed.gov. You must include the term “Proposed Priorities for RERCs” and the priority title in the subject line of your electronic message.

FOR FURTHER INFORMATION CONTACT: Donna Nangle. Telephone: (202) 245-7462 or by e-mail: donna.nangle@ed.gov.

If you use a telecommunications device for the deaf (TDD), call the Federal Relay Service (FRS), toll free, at 1-800-877-8339.

SUPPLEMENTARY INFORMATION:

This notice of proposed priorities is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings. This notice proposes two priorities that NIDRR intends to use for RERC competitions in FY 2010 and possibly later years. However, nothing precludes NIDRR from publishing additional priorities, if needed.

Furthermore, NIDRR is under no obligation to make awards for these priorities. The decision to make an award will be based on the quality of applications received and available funding.

Invitation to Comment: We invite you to submit comments regarding this notice. To ensure that your comments have maximum effect in developing the notice of final priorities, we urge you to identify clearly the specific proposed priority that each comment addresses.

We invite you to assist us in complying with the specific requirements of Executive Order 12866 and its overall requirement of reducing regulatory burden that might result from these proposed priorities. Please let us know of any further ways we could reduce potential costs or increase potential benefits while preserving the effective and efficient administration of the program.

During and after the comment period, you may inspect all public comments about this notice in room 6030, 550 12th Street, SW., Potomac Center Plaza, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities; to develop methods, procedures, and rehabilitation technology that maximize the full inclusion and integration into society, employment, independent living, family support, and economic and social self-sufficiency of individuals with disabilities, especially individuals with the most severe disabilities; and to improve the effectiveness of services authorized under the Rehabilitation Act of 1973, as amended (Rehabilitation Act).

Rehabilitation Engineering Research Centers Program (RERCs)

The purpose of the RERC program is to improve the effectiveness of services authorized under the Rehabilitation Act by conducting advanced engineering research and development on innovative technologies that are designed to solve particular rehabilitation problems, or to remove environmental barriers. RERCs also demonstrate and evaluate such technologies, facilitate service delivery system changes, stimulate the production and distribution of new technologies and equipment in the private sector, and provide training opportunities.

General Requirements of RERCs

RERCs carry out research or demonstration activities in support of the Rehabilitation Act by—

• Developing and disseminating innovative methods of applying advanced technology, scientific achievement, and psychological and social knowledge: (a) To solve rehabilitation problems and to remove environmental barriers; and (b) to study and evaluate new or emerging technologies, products, or environments and their effectiveness and benefits; or

• Demonstrating and disseminating: (a) Innovative models for the delivery of cost-effective rehabilitation technology services to rural and urban areas; and (b) other scientific research to assist in meeting the employment and independent living needs of individuals with severe disabilities; and

• Facilitating service delivery systems change through: (a) The development, evaluation, and dissemination of innovative, consumer-responsive, and individual- and family-centered models for the delivery to both rural and urban areas of innovative cost-effective rehabilitation technology services; and (b) other scientific research to assist in meeting the employment and independence needs of individuals with severe disabilities.

Each RERC must be operated by, or in collaboration with, one or more institutions of higher education or one or more nonprofit organizations.

Each RERC must provide training opportunities, in conjunction with institutions of higher education or nonprofit organizations, to assist individuals, including individuals with disabilities, to become rehabilitation technology researchers and practitioners.

Each RERC must emphasize the principles of universal design in its product research and development. Universal design is “the design of products and environments to be usable by all people, to the greatest extent possible, without the need for adaptation or specialized design” (North Carolina State University, 1997. http://www.design.ncsu.edu/cud/about_ud/udprinciplestext.htm).

Additional information on the RERC program can be found at: http://www.ed.gov/rschstat/research/pubs/index.html.

Program Authority: 29 U.S.C. 762(g) and 764(a).

Applicable Program Regulations: 34 CFR part 350.

Proposed Priorities: This notice contains two proposed priorities.

Proposed Priority 1—Universal Design in the Built Environment

Background

Universal Design (UD) is the design of products and environments to be usable by all people, to the greatest extent possible, without the need for adaptation or specialized design (North Carolina State University, 1997). UD improves function, independence, and social participation for the entire population, including individuals with disabilities.

Examples of UD in the built environment include curb cuts, ramps, automatic doors, restrooms, and wayfinding strategies. There will be an increased need for products and environments with UD as the Baby Boom generation ages. Many in this generation will wish to remain in their own homes as they age (Bayer & Harper, 2000).

Past work supported by NIDRR has contributed substantially to the development of the field of UD. With NIDRR funding, the Center for Universal Design, in collaboration with other researchers and practitioners, developed and published the following “principles of universal design”: Equitable use, flexibility in use, simple and intuitive use, perceptible information, tolerance for error, low physical effort, and size and space for approach and use (http://design.ncsu.edu/cud/about_ud/udprinciples.htm). These seven design principles have guided researchers, engineers, and planners in designing accessible housing and built environments (North Carolina State University, 1997). Among other outcomes, NIDRR funding also has contributed to the development of 35 new State and local visitability programs across the U.S. These programs apply UD principles in the new housing industry by incorporating an affordable, sustainable, and inclusive design approach for integrating basic accessibility features into all newly built homes. In addition, NIDRR funding contributed to the inclusion of UD principles by the New York City Department of Design and Construction in the official guide for all architects working for the city (Danford & Tauke, 2000).

Despite this progress, UD has experienced relatively slow adoption for several reasons. Until recently, engineers, designers, and manufacturers have focused on creating environments and products for individuals of average age, size, and ability and have argued that accommodations and design for all is too costly and complex (Danford & Tauke, 2000). In addition, university-level architecture and engineering programs do not generally include UD courses in their curriculum (Tauke, 2008). The UD field has been criticized for a lack of measurable implementation guidelines and a lack of explicit evidence-based UD practices (Steinfeld, 2006). Continued research and development in the area of UD is necessary to address these issues of UD adoption and viability. Curricula on UD for university-level engineering and design students, proper measurement tools, guidelines, evidence-based practices, and aesthetically pleasing and economically viable exemplars of UD are needed to demonstrate the efficacy of UD in facilitating independence and social participation among end users.

References

Bayer, A. & Harper, L. (2000). AARP, Fixing to stay: A national survey of housing and home modification issues, 24. See http://assets.aarp.org/rgcenter/il/home_mod.pdf.

Danford, G. & Tauke, B., eds. (2000). Universal Design: New York. New York, NY: Mayor's Office for People with Disabilities. See http://www.ap.buffalo.edu/idea/PubIntro/index.asp.

North Carolina State University. (1997). The principles of universal design (1997). Version 2.0—4/1/97. Compiled by advocates of universal design, listed in alphabetical order: Bettye Rose Connell, Mike Jones, Ron Mace, Jim Mueller, Abir Mullick, Elaine Ostroff, Jon Sanford, Ed Steinfeld, Molly Story, and Gregg Vanderheiden. North Carolina State University, The Center for Universal Design. See http://design.ncsu.edu/cud/about_ud/udprinciples.htm.

Tauke, B. (2008). Universal Design—The time is now. See http://www.uigarden.net/english/universal-design-the-time-is-now.

Proposed Priority

The Assistant Secretary for Special Education and Rehabilitative Services proposes a priority for a Rehabilitation Engineering Research Center (RERC) on Universal Design (UD) in the Built Environment. Under this priority, the RERC must research, develop, evaluate, and promote UD in commercial and private facilities, outdoor environments, and housing. In addition, the RERC must create measurable UD standards and guidelines to facilitate the implementation of UD principles, create economically viable UD exemplars, aid in the development of evidence-based practices for UD, and help to design curricula on UD for university-level engineering and design students. The RERC must assist designers, builders, and manufacturers incorporate UD into their buildings and communities.

Proposed Priority 2—Technologies for Children With Orthopedic Disabilities

Background

As of December 1, 2007, 55,131 students from 6 to 17 years of age were reported to the Office of Special Education Programs in the U.S. Department of Education as having an orthopedic impairment (IDEA Data, 2007). The definition of orthopedic impairment in the IDEA regulations includes impairments caused by congenital anomalies, impairments caused by disease (e.g., poliomyelitis, bone tuberculosis), and impairments from other causes (e.g., cerebral palsy, amputations, and fractures or burns that cause contractures) (34 CFR 300.8(c)(8)).

Children with orthopedic disabilities often need assistance to perform a wide range of daily living tasks and activities. While family members, caregivers, and educators are the primary providers of this assistance, clinicians, researchers, and rehabilitation engineers are developing a growing number of technological products and interventions that assist children with orthopedic disabilities to function more independently.

NIDRR has contributed to the research and development of technologies for children with orthopedic disabilities for 20 years. Much of this work has centered on developing mobility and manipulation devices. For example, a NIDRR-funded RERC developed lightweight orthotic components, evaluated the effectiveness of functional electrical stimulation to improve gait, and studied which stage of development is the most beneficial to provide children with wheeled mobility. A NIDRR-funded RERC also developed the Easy Feed Hand, a prosthetic hand that is designed to evolve with the growth of the child, and made a new mobile arm support orthosis commercially available.

Continued efforts are needed to develop new products, technologies, and therapies that promote independence and functional rehabilitation. While initial research has evaluated assistive technologies for children's independence and manipulation, more research and development are needed to fully implement these technologies. For example, light-weight, adjustable pediatric wheelchairs can improve mobility (Meiser & McEwen, 2007) and provide children with better wheelchair performance with less exertion (Kirby et al., 2008). Manipulation devices, whether wheelchair mounted or autonomous, can provide greater independence and allow children to better interact with their environment (Machiel Van der Loos & Reinkensmeyer, 2008). Several rehabilitation therapies have been successful for adults with orthopedic impairments, and there is emerging evidence to suggest that these therapies may improve mobility and manipulation among children. In this regard, rehabilitation therapies such as constraint-induced therapy (Taub, Ramey, DeLuca, & Echols, 2004; Gordon, Charles, & Wolf, 2006), robot-assisted therapy (Meyer-Heim et al., 2009), and virtual reality-based therapy (Wille et al., 2009) have yet to be fully developed, adapted, and analyzed for use with children.

References

Code of Federal Regulations. (2008). Education, 34 CFR 300.8.

Gordon, A.M., Charles, J., & Wolf, S.L. (2006). Efficacy of constraint-induced movement therapy on involved upper-extremity use in children with hemiplegic cerebral palsy is not age-dependent. Pediatrics, Mar, 117.

Individuals with Disabilities Education Act (IDEA) Data. (2007). See: http://www.ideadata.org/arc_toc9.asp#partbCC Table 1-4 and 1-5.

Kirby, R.L., MacDonald, B., Smith, C., MacLeod, D.A., & Webber, A. (2008). Comparison between a tilt-in-space wheelchair and a manual wheelchair equipped with a new rear anti-tip device from the perspective of the caregiver. Archives of Physical Medical Rehabilitation, September 89(9).

Machiel Van der Loos, H.F. & Reinkensmeyer, D.J. (2008). Rehabilitation and health care robotics. In B. Siciliano & O. Khatib (Eds.), Springer Handbook of Robotics (pp. 1235-1239). Springer Berlin Heidelberg.

Meiser, M.J. & McEwen, I.R. (2007). Lightweight and ultralight wheelchairs: Propulsion and preferences of two young children with spina bifida. Pediatric Physical Therapy, Fall 19(3).

Meyer-Heim, A., Ammann-Reiffer, C., Schmartz, A., Schäfer, J., Sennhauser, F.H., Heinen, F., Knecht, B., Dabrowski, E., & Borggraefe, I. (2009). Improvement of walking abilities after robotic-assisted locomotion training in children with cerebral palsy. Archives of Disease in Childhood, August 94(8).

Taub, E., Ramey, S., DeLuca, S. & Echols, K. (2004). Efficacy of constraint-induced movement therapy for children with cerebral palsy with asymmetric motor impairment. Pediatrics, 113(2).

Wille, D., Eng, K., Holper, L., Chevrier, E., Hauser, Y., Kiper, D., Pyk, P., Schlegel, S., & Meyer-Heim, A. (2009). Virtual reality-based paediatric interactive therapy system (PITS) for improvement of arm and hand function in children with motor impairment—a pilot study. Developmental Neurorehabilitation, January-March 12(1).

Proposed Priority

The Assistant Secretary for Special Education and Rehabilitative Services proposes a priority for a Rehabilitation Engineering Research Center (RERC) on Technologies for Children with Orthopedic Disabilities. This RERC will focus on innovative technologies and new knowledge that will improve the lives of children with orthopedic disabilities. Under this priority, the RERC must research, develop, apply, and evaluate new or existing technologies and approaches to improve the availability and usability of assistive devices for children with orthopedic disabilities. This work must contribute to the improvement of mobility and manipulation functions among children with orthopedic disabilities as they perform daily tasks and activities at home, at school, and in the community. In addition, the RERC must develop, test, and implement rehabilitation therapy technologies and strategies for use with children with orthopedic disabilities.

Requirements applicable to both proposed priorities: The RERC established under each of the proposed priorities in this notice must be designed to contribute to the following outcomes:

(1) Increased technical and scientific knowledge relevant to its designated priority research area. The RERC must contribute to this outcome by conducting high-quality, rigorous research and development projects.

(2) Increased innovation in technologies, products, environments, performance guidelines, and monitoring and assessment tools applicable to its designated priority research area. The RERC must contribute to this outcome through the development and testing of these innovations.

(3) Improved research capacity in its designated priority research area. The RERC must contribute to this outcome by collaborating with the relevant industry, professional associations, institutions of higher education, health care providers, or educators, as appropriate.

(4) Improved awareness and understanding of cutting edge developments in technologies within its designated priority research area. The RERC must contribute to this outcome by identifying and communicating with NIDRR, individuals with disabilities, their representatives, disability organizations, service providers, professional journals, manufacturers, and other interested parties regarding trends and evolving product concepts related to its designated priority research area.

(5) Increased impact of research in the designated priority research area. The RERC must contribute to this outcome by providing technical assistance to relevant public and private organizations, individuals with disabilities, employers, and schools on policies, guidelines, and standards related to its designated priority research area.

(6) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, under each priority, the RERC must—

• Have the capability to design, build, and test prototype devices and assist in the technology transfer and

knowledge translation of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research, a plan to disseminate its research results to individuals with disabilities, their representatives, disability organizations, service providers, professional journals, manufacturers, and other interested parties;

• Conduct a state-of-the-science conference on its designated priority research area in the fourth year of the project period, and publish a comprehensive report on the final outcomes of the conference in the fifth year of the project period; and

• Coordinate research projects of mutual interest with relevant NIDRR-funded projects, as identified through consultation with the NIDRR project officer.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priorities in a notice in the Federal Register. We will determine the final priorities after considering responses to this notice and other information available to the Department. This notice does not preclude us from proposing additional priorities, requirements, definitions, or selection criteria, subject to meeting applicable rulemaking requirements.

Note: This notice does not solicit applications. In any year in which we choose to use these priorities, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits: The benefits of the Disability and Rehabilitation Research Projects and Centers Programs have been well established over the years in that similar projects have been completed successfully. These proposed priorities will generate new knowledge through research and development. Another benefit of these proposed priorities is that the establishment of new RERCs will improve the lives of individuals with disabilities. The new RERCs will generate, disseminate, and promote the use of new information that will improve the options for individuals with disabilities to fully participate in their communities.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, Potomac Center Plaza, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 6, 2010.
Alexa Posny,
Assistant Secretary for Special Education and Rehabilitative Services.

[FR Doc. 2010-8166 Filed 4-8-10; 8:45 am]

BILLING CODE 4000-01-P